DEPARTMENT OF ENERGY

Federal Energy Regulatory Commission

Notice of Commission Staff Attendance

The Federal Energy Regulatory Commission hereby gives notice that members of the Commission's staff may attend the following meetings related to the transmission planning activities of the Midwest Independent Transmission System Operator, Inc. and Southwest Power Pool:

Order No. 1000-MISO-SPP Workshop—July 9-10

The above-referenced meeting will be held at:

Hilton St. Louis at the Ballpark, One South Broadway, St. Louis, MO 63102

The above-referenced meeting is open to the public.

Further information may be found at http://spp.org/.

The discussions at the meeting described above may address matters at issue in the following proceedings:

Docket No. ER12-1772-000, Southwest Power Pool, Inc.

Docket No. ER12-1610-000, Southwest Power Pool, Inc.

Docket No. ER12-1577-000, Midwest Independent Transmission System Operator, Inc.

Docket No. ER12-1460-000, Southwest Power Pool, Inc.

Docket No. ER12-1415-000, Southwest Power Pool, Inc.

Docket No. ER12-1179-000, Southwest Power Pool, Inc.

Docket No. ER12-715, Midwest Independent Transmission System Operator, Inc.

Docket No. ER12-480, Midwest Independent Transmission System Operator, Inc.

Docket No. ER12-309, Midwest Independent Transmission System Operator, Inc.

Docket No. ER11-4105-000, Southwest Power Pool, Inc.

Docket No. ER11-1844, Midwest Independent Transmission System Operator, Inc.

Docket No. ER09-548-001, ITC Great Plains, LLC

Docket No. ER09-36-001, Prairie Wind Transmission, LLC

Docket No. ER09-35-001, Tallgrass Transmission, LLC

Docket No. EL11-56, FirstEnergy Service Company

Docket No. EL11-30, E.ON Climate & Renewables North America, LLC v. Midwest Independent Transmission System Operator, Inc.

Docket No. EL12-24-000, Pioneer Transmission LLC v. Midwest Independent Transmission System Operator, Inc.

Docket No. EL12-28-000, Xcel Energy Services Inc. v. American Transmission Company, LLC

Docket No. OA08-53, Midwest Independent Transmission System Operator, Inc.

For more information, contact Christopher Miller, Office of Energy Markets Regulation, Federal Energy Regulatory Commission at (317) 249-5936 or christopher.miller@ferc.gov, or contact Robert Sacknoff, Office of Energy Markets Regulation, Federal Energy Regulatory Commission at (202) 502-6758 or robert.sacknoff@ferc.gov.

Dated: July 2, 2012.
Kimberly D. Bose,
Secretary.

[FR Doc. 2012-16756 Filed 7-9-12; 8:45 am]

BILLING CODE 6717-01-P